DEPARTMENT OF COMMERCE

International Trade Administration

[A-570-501]

Natural Bristle Paint Brushes and Brush Heads From the People's Republic of China: Notice of Initiation and Preliminary Results of Changed Circumstance Review, and Intent To Revoke the Order

AGENCY: Import Administration, International Trade Administration, Department of Commerce.

SUMMARY: On May 7, 2010, the Department of Commerce (“Department”) received a request for a changed circumstances review to revoke the antidumping duty order on natural bristle paint brushes and brush heads from the People's Republic of China (“PRC”). See generally, Antidumping Duty Order: Natural Bristle Paint Brushes and Paint Brush Heads from the People's Republic of China, 51 FR 5580 (Feb. 14, 1986) and Amended Antidumping Duty Order: Natural Bristle Paint Brushes and Paint Brush Heads from the People's Republic of China, 51 FR 8342 (March 11, 1986) (“Order”). The domestic industry submitted a letter to the Department expressing a lack of interest in antidumping duty relief from imports of the subject merchandise. Therefore, we are notifying the public of our intent to revoke the above referenced Order and are inviting interested parties to comment on these preliminary results.

DATES: Effective Date: June 16, 2010.

FOR FURTHER INFORMATION CONTACT: Bob Palmer or Catherine Bertrand, Import Administration, International Trade Administration, Department of Commerce, 14th Street and Constitution Avenue, NW., Washington DC 20230; telephone (202) 482-9068 and (202) 482-3207, respectively.

SUPPLEMENTARY INFORMATION:

Background

On March 22, 2010, the Department published the Natural Bristle Paint Brushes and Brush Heads from the People's Republic of China: Final Results of the Expedited Sunset Review of the Antidumping Duty Order, 75 FR 13489 (March 22, 2010).

On May 7, 2010, the Department received a request, pursuant to sections 751(d)(1) and 782(h)(2) of the Tariff Act of 1930, as amended (“the Act”), and 19 CFR 351.222(g), to revoke the Order based on an expression of no interest from the Paint Applicators Trade Action Coalition (“PATAC”), an ad hoc coalition of producers of the domestic like product, and the Paint Applicator Division of the American Brush Manufacturers Association (“ABMA”), a trade association (collectively the “Paint Applicators”). On May 17, 2010, the Department requested that the Paint Applicators demonstrate that they account for substantially all of the U.S. production of the domestic like product for the period of April 1, 2009, through March 31, 2010. On May 24, 2010, the Paint Applicators responded to the Department's request and indicated that, to the best of their knowledge, they represented at least 85 percent of the production of domestic like product during the period identified by the Department.

Scope of the Order

The merchandise covered by the scope of the Order are natural bristle paintbrushes and brush heads from the PRC. Excluded from the scope of the Order are paint brushes and brush heads with a blend of 40 percent natural bristles and 60 percent synthetic filaments. The merchandise under review is currently classifiable under item 9603.40.40.40 of the Harmonized Tariff Schedule of the United States (“HTSUS”). Although the HTSUS subheading is provided for convenience and customs purposes, the Department's written description of the scope of the merchandise is dispositive.

Initiation and Preliminary Results of Changed Circumstances Review, and Intent To Revoke the Order

At the request of the Paint Applicators, and in accordance with sections 751(d)(1) and 751(b)(1) of the Act and 19 CFR 351.216, the Department is initiating a changed circumstances review to determine whether the revocation of the Order is warranted. Section 782(h)(2) of the Act and 19 CFR 351.222(g)(1)(i) provide that the Department may revoke an order (in whole or in part) if it determines that producers accounting for substantially all (i.e., at least 85 percent) ¹ of the production of the domestic like product have expressed no further interest in the order. In addition, in the event the Department determines that expedited action is warranted, 19 CFR 351.221(c)(3)(ii) permits the Department to combine the notices of initiation and preliminary results.

¹ The Department has defined “substantially all” to mean accounting for over 85% of the total production of the domestic like product. See Certain Orange Juice from Brazil: Preliminary Results of Antidumping Duty Changed Circumstances Review and Intent Not to Revoke, In Part, 73 FR 60214 (October 10, 2008), unchanged in Certain Orange Juice From Brazil: Final Results of Antidumping Duty Changed Circumstances Review, 74 FR 4733 (January 27, 2009).

In accordance with section 751(b) of the Act, and 19 CFR 351.222(g) and 351.216(b), we are initiating this changed circumstances review and have determined that, pursuant to 19 CFR 351.221(c)(3)(ii), expedited action is warranted. We find that the Paint Applicators' affirmative statement of no interest, and its statement that it produced substantially all of the domestic like product during the period identified by the Department, provides a reasonable basis for the Department's determination to conduct an expedited review. Based on the expression of no interest and claims of accounting for substantially all of the domestic production of the domestic like product by the Paint Applicators, and absent any objection by any other domestic interested parties or any evidence to the contrary, we have also preliminarily determined that substantially all of the domestic producers of the domestic like product have no interest in the continued application of the Order. Therefore, we are notifying the public of our intent to revoke the Order. If we make a final determination to revoke the Order, this determination will apply to all unliquidated entries of subject merchandise covered by the Order which are entered, or withdrawn from warehouse, for consumption on or after the date determined by the Department. See section 751(d)(3) of the Act. Suspension of liquidation is considered removed upon publication of the final results in the Federal Register and the Department will instruct U.S. Customs and Border Protection to liquidate without regard to antidumping duties and to refund any estimated antidumping duties collected. See 19 CFR 351.222(g)(4). The current requirement for a cash deposit of estimated antidumping duties on subject merchandise covered by the Order will continue unless, and until, we publish a final determination to revoke.

Public Comment

Interested parties are invited to comment on these preliminary results. Parties who submit argument in this proceeding are requested to submit with the argument: (1) A statement of the issue, and (2) a brief summary of the argument. Any interested party may request a hearing within 10 days of the date of publication of this notice. Any hearing, if requested, will be held no later than 25 days after the date of publication of this notice, or the first workday thereafter. Case briefs may be submitted by interested parties not later than 21 days after the date of publication of this notice. Rebuttal briefs, limited to the issues raised in the case briefs, may be filed not later than 5 days after the due date for case briefs. All written comments shall be submitted in accordance with 19 CFR 351.303. Persons interested in attending the hearing should contact the Department for the date and time of the hearing. The Department will publish the final results of this changed circumstances review, including the results of its analysis of issues raised in any written comments.

The preliminary results of this review and notice are in accordance with sections 751(b)(1) and 777(i) of the Act and 19 CFR 351.221(b)(1).

Dated: June 9, 2010.
Ronald K. Lorentzen,
Deputy Assistant Secretary for Import Administration.

[FR Doc. 2010-14552 Filed 6-15-10; 8:45 am]

BILLING CODE 3510-DS-P